DEPARTMENT OF ENERGY

Federal Energy Regulatory Commission

[Project No. 6972-032]

Hollow Dam Power Company; Ampersand Hollow Dam Hydro, LLC; Notice of Application for Transfer of License, and Soliciting Comments and Motions To Intervene

On September 10, 2013, Hollow Dam Power Company (transferor) and Ampersand Hollow Dam Hydro, LLC (transferee) filed an application for transfer of license for the Hollow Dam Project, FERC No. 6972, located on the West Branch of the Oswegatchie River in St. Lawrence County, New York.

Applicants seek Commission approval to transfer the license for the Hollow Dam Project from transferor to transferee.

Applicants' Contact: Transferor: Mr. Peter Howe, Hollow Dam Power Company, c/o SilverStreet Hydro, 15 East Silver Street, Westfield, MA 01085, (413) 562-1266. Transferee: Mr. Lutz Loegters, Ampersand Hollow Dam Hydro, LLC, c/o Ampersand Hydro, LLC, 717 Atlantic Avenue, Suite 1A, Boston, MA 02111, (617) 933-7200.

FERC Contact: Patricia W. Gillis (202) 502-8735.

Deadline for filing comments and motions to intervene: 30 days from the issuance date of this notice by the Commission. Comments and motions to intervene may be filed electronically via the Internet. See 18 CFR 385.2001(a)(1) and the instructions on the Commission's Web site under http://www.ferc.gov/docs-filing/efiling.asp. Commenters can submit brief comments up to 6,000 characters, without prior registration, using the eComment system at http://www.ferc.gov/docs-filing/ecomment.asp. You must include your name and contact information at the end of your comments. If unable to be filed electronically, documents may be paper-filed. To paper-file, mail to: Kimberly D. Bose, Secretary, Federal Energy Regulatory Commission, 888 First Street NE., Washington, DC 20426. More information about this project can be viewed or printed on the eLibrary link of Commission's Web site at http://www.ferc.gov/docs-filing/elibrary.asp. Enter the docket number (P-6972) in the docket number field to access the document. For assistance, call toll-free 1-866-208-3372.

Dated: September 25, 2013.
Nathaniel J. Davis, Sr.,
Deputy Secretary.

[FR Doc. 2013-23881 Filed 9-30-13; 8:45 am]

BILLING CODE 6717-01-P